DEPARTMENT OF ENERGY

Federal Energy Regulatory Commission

[Project No. 14136-000; Project No. 14139-000]

Lock+ Hydro Friends Fund XXXV; Riverbank Hydro No. 4, LLC; Notice Announcing Filing Priority for Preliminary Permit Applications

On October 27, 2011, the Commission held a drawing to determine priority among competing preliminary permit applications with identical filing times. In the event that the Commission concludes that neither of the applicants' plans is better adapted than the other to develop, conserve, and utilize in the public interest the water resources of the region at issue, the priority established by this drawing will serve as the tiebreaker. Based on the drawing, the order of priority is as follows:

1. Lock+ Hydro Friends Fund XXXV—Project No. 14136-000

2. Riverbank Hydro No. 4, LLC—Project No. 14139-000

Dated: October 27, 2011.
Nathaniel J. Davis, Sr.,
Deputy Secretary.

[FR Doc. 2011-28365 Filed 11-1-11; 8:45 am]

BILLING CODE 6717-01-P